DEPARTMENT OF HOUSING AND URBAN DEVELOPMENT

[Docket No. FR-6000-FA-08]

Announcement of Funding Awards; Rural Capacity Building for Community Development and Affordable Housing Program; Fiscal Year (FY) 2016

AGENCY: Office of the Principal Deputy Assistant Secretary for Community Planning and Development, HUD.

ACTION: Announcement of funding awards.

SUMMARY: In accordance with Section 102(a)(4)(C) of the Department of Housing and Urban Development Reform Act of 1989, this announcement notifies the public of funding decisions made by the Department in a competition for funding under the FY 2016 Notice of Funding Availability (NOFA) for the Rural Capacity Building for Community Development and Affordable Housing Program. This announcement contains the names and addresses of the award recipients under said NOFA.

FOR FURTHER INFORMATION CONTACT: Steven K. Washington, Director, Office of Policy Development and Coordination, Office of Community Planning and Development, U.S. Department of Housing and Urban Development, 451 7th Street SW., Room 7140, Washington, DC 20410, or email capacitybuilding@hud.gov. Telephone number (202) 402-4142 (this is not a toll-free number). Persons with hearing or speech impairments may access this number via TTY by calling the toll-free Federal Relay Service at (800) 877-8339.

SUPPLEMENTARY INFORMATION: As authorized by the Consolidated Appropriations Act, 2016 (Pub. L. 114-113, approved December 18, 2015, the purpose of the Rural Capacity Building for Community Development and Affordable Housing program is to fund capacity building activities performed by national rural housing organizations. Through this program, grants are made to eligible organizations to then provide training, education, support and advice to enhance the technical and administrative capabilities of rural housing development organizations, Community Development Corporations (CDCs), Community Housing Development Organizations (CHDOs), local governments and Indian tribes. Eligible organizations are defined in the NOFA as a national, non-profit entity or consortium that has on-going experience in rural housing in five or more HUD regions.

Grants may be used by eligible organizations (grantees) to assist rural organizations to improve their capacity to participate in local, regional and State planning processes such as those for the Consolidated Plan, fair housing plan and the Continuum of Care for homeless assistance. Grantees will also help rural community organizations to build their capacity to evaluate performance, work broadly with the community, cooperatively plan for the use of available resources, and to link plans with neighboring communities in order to foster regional planning. Eligible activities to accomplish these purposes include making loans, pass-through grants, development assistance, predevelopment assistance, or other financial assistance to rural housing organizations, CDCs, CHDOs, local governments, and Indian tribes. Community development and affordable housing activities must benefit low-income and low- and moderate-income families and persons, for both housing and economic development activities. Finally, other activities as determined by the grantees in consultation with the HUD Secretary or his or her designee, may be allowed.

The FY 2016 awards announced in this Notice were selected for funding in a NOFA competition posted on the http://www.grants.gov Web site on July 15, 2016 for $5,000,000. Applications were received by the deadline from twelve organizations and eight of those applications passed the initial threshold review. Those eight applications were reviewed using criteria identified in the FY2016 NOFA, with a minimum score of 75 required for funding consideration. Six of the eight applications exceeded the minimum score and were selected for funding as outlined in Appendix A.

Dated: January 4, 2017.
Harriet Tregoning,
Principal Deputy Assistant Secretary for Community Planning and Development.

Appendix A

FY2016 Rural Capacity Building for Community Development and Affordable Housing Awards
Applicant name | Contact | Award amount
Rural Community Assistance Corp | Stanley Keasling, Chief Executive Director, 3120 Freeboard Drive, Suite 201, Sacramento, CA 95691-5010 | $1,174,365
National Association for Latino Community Asset Builders | Noel Poyo, Executive Director, 5404 Wurzbach Road, San Antonio, TX 78238 | 1,000,000
Minnesota Housing Partnership | Rosemary Fagrelius, Housing Development Director, 2446 University Avenue West, Suite 140, Saint Paul, MN 55114 | 978,791
Housing Assistance Council | Moises Loza, Executive Director,1025 Vermont Ave. NW., Washington, DC 20005 | 778,923
Collaborative Solutions, Inc | Russell Bennett, Executive Director, P.O. Box 130159, Birmingham, AL 35213-0159 | 567,921
Economic Consultants for Housing Opportunities, Inc | Linda Brockway, President, 6810 S. Cedar St., Suite #15, Lansing, MI 48911-6909 | 500,000

[FR Doc. 2017-00432 Filed 1-10-17; 8:45 am]

BILLING CODE 4210-67-P